DEPARTMENT OF THE INTERIOR

Bureau of Indian Affairs

Proclaiming Certain Lands, Bowlin North Property, as an Addition to the Pueblo of Laguna Reservation, New Mexico

AGENCY: Bureau of Indian Affairs, Interior.

ACTION: Notice of Reservation Proclamation.

SUMMARY: This notice informs the public that the Assistant Secretary—Indian Affairs proclaimed approximately 99.5623 acres, more or less, to be added to the Pueblo of Laguna Reservation, (Laguna), New Mexico.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual.

A proclamation was issued, in accordance with Section 7 of the Act of June 18, 1934 (48 Stat. 986; 25 U.S.C. 467), for the land described below. The land was proclaimed to be an addition to and part of the Laguna Reservation for the exclusive use of Indians on that reservation who are entitled to reside at the reservation by enrollment or tribal membership.

New Mexico Principal Meridian

Bernalillo County, New Mexico

Section 03, Township 09 North, Range 1 West, N.M.P.M.

Those certain parcels of land known as Parcels I, II, and III, situated in projected Section 3, Township 9 North, Range 1 West, N.M.P.M., within the Town of Atrisco Grant, in Bernalillo County, New Mexico, more particularly described by survey filed in the office of the County Clerk of Bernalillo County, New Mexico, on October 19, 2007, in Book 2007S, page 80, as Document No. 2007147071, performed by Brian K. McClintock, New Mexico Professional Surveyor Number 11597. Said parcels contain 99.5623 acres, more or less.

Said parcels are more particularly described as follows, to-wit:

PARCEL I: (QCD: Bk. A36, Pg. 2843, WD: A13, Pg. 2512) Tract Lettered “A” of the Plat of Division of LAND OF MRS. LULA M. BRIDGES, Bernalillo County, New Mexico, as the same is shown and designated on the plat thereof, filed in the office of the County Clerk of Bernalillo County, New Mexico on July 27, 1971 in Volume B5, Folio 192; TOGETHER WITH A Northerly portion of the LANDS OF GEORGE T. HILL, Town of Atrisco Grant, Bernalillo County, New Mexico, as the same is shown and designated on the plat thereof, filed in the office of the County Clerk of Bernalillo County, New Mexico on February 11, 1952 in Volume A1, Folio 099 TOGETHER WITH A certain tract of land situate within Projected Section 3, Township 9 North, Range 1 West of the N.M.P.M., Bernalillo County, New Mexico, Being adjacent to the Northerly line of said LANDS OF GEORGE T. HILL, all being more particularly described as follows:

Beginning at the Southwest corner of the herein described “PARCEL I”, being a No. 5 Rebar, and being a point on the Northerly line of Interstate 40, frontage road (NMP 1-040-3(31)137); Thence N12°23′20″ W, a distance of 1042.71 feet to a point, being a 1″ Iron Pipe; Thence S83°57′47″ W, a distance of 101.19 feet to a point; Thence N09°07′43″ W, a distance of 640.46 feet to a point, being the Northwest corner of “PARCEL I”; Thence S89°06′14″ E, a distance of 915.03 feet to a point, being a No. 4 Rebar, #11463, and being the Northeast corner of “PARCEL I”; Thence S13°59′07″ E, a distance of 1206.02 feet to a point, being a No. 4 Rebar, #11463; Thence N74°58′17″ E, a distance of 146.70 feet to a point, being a No. 4 Rebar, #11463; Thence S15°05′50″ E, a distance of 129.77 feet to a point, being a No. 4 Rebar, #11463; Thence S74°58′17″ W, a distance of 230.00 feet to a point, being a No. 4 Rebar, #11463; Thence S15°05′46″ E, a distance of 125.04 feet to a point, being the Southeast corner of “PARCEL I”, and being a point on the Northerly line of Interstate I-40, frontage road (NMP 1-040-3(31)137); Thence southwesterly along said Interstate 40 right of way line on a curve (radius = 2414.69′, chord = S75°57′39″ W, a distance of 126.94 feet) delta = 3°00′45″, through an arc to the right a distance of 126.95 feet to a point, being R/W cap 8060, #11599; Thence along said Interstate 40 right of way line S77°28′01″ W, a distance of 298.81 feet to a point, being R/W cap 8059, #11599; Thence southwesterly along said Interstate 40 right of way line on a curve (radius = 2670.60′, chord = S76°10′31″ W, a distance of 121.82 feet) delta = 2°36′50″, through an arc to the left a distance of 121.83 feet to a point, being R/W cap 8058, #11599; Thence along said Interstate 40 right of way line S74°50′12″ W, a distance of 241.61 feet to the Southwest corner of “PARCEL I” and said point of beginning.

Said described PARCEL I” contains 1,387,489.99 sq. ft. (31.8524 Ac.) more or less.

PARCEL II: (WD: Bk. 9816, Pg. 8285, WD: A13, Pg. 2512)

Tract B-1 of Plat of Tract B-1, “LANDS OF BOWLIN”, as designated on the plat thereof, filed in the office of the County Clerk of Bernalillo County, New Mexico on October 5, 1993 in Volume 93C, Folio 288 records of Bernalillo County, New Mexico; EXCEPTING FROM PARCEL I and II those portions conveyed to the New Mexico State Highway and Transportation Department by Warranty Deeds recorded April 5th, 2000 in Book A4, pages 2706 and 2707 as Document Nos. 2000032849 and 2000032850, records of Bernalillo County, New Mexico, all being more particularly described as follows:

Beginning at the Southwest corner of the herein described “PARCEL II”, being a point on the Northerly line of Interstate 40, frontage road (NMP 1-040-3(31)137); Thence N15°05′46″ W, a distance of 125.04 feet to a point, being the Northwest corner of “PARCEL II”; Thence N74°58′17″ E, a distance of 230.00 feet to a point, being a No. 4 Rebar, #11463; Thence N74°58′17″ E, a distance of 100.00 feet to a point; Thence S15°02′56″ E, a distance of 10.00 feet to a point; Thence N74°57′04″ E, a distance of 82.53 feet to a point; Thence northeasterly on a curve (radius = 527.00′, chord = N65°34′34″ E, a distance of 171.69 feet) delta = 18°45′00”, through an arc to the left a distance of 172.46 feet to a point; Thence N53°31′18″ E, a distance of 203.50 feet to a point; Thence northeasterly on a curve (radius = 1001.00′, chord = N74° 57′23″ E, a distance of 643.52 feet) delta = 37°30′00″, through an arc to the right a distance of 655.15 feet to a point, being a “spike found”; Thence S86°17′37″ E, a distance of 169.91 feet to a point, being the Northeast corner of “PARCEL II” and also being a No. 4 Rebar, #11463; Thence S03°27′27″ W, a distance of 63.97 feet to a point, being the Southeast corner of “PARCEL II”, being a point on the Northerly line of Interstate 40, frontage road (NMP 1-040-3(31)137), and being R/W cap 8067, #11599; Thence along said Interstate 40 right of way line, S81°50′44″ W, a distance of 55.03 feet to a point, being R/W cap 8066, #11599; Thence southwesterly along said Interstate 40 right of way line on a curve (radius = 3051.18′, chord = S75°59′55″ W, a distance of 621.10 feet) delta = 11°41′00″, through an arc to the left a distance of 622.18 feet to a point, being R/W cap 8065, #11599; Thence along said Interstate 40 right of way line, S70°09′01″ W, a distance of 490.72 feet to a point, being R/W cap 8064, #11599; Thence along said Interstate 40 right of way line S37°06′58″ W, a distance of 96.14 feet to a point, being R/W cap 8063, #11599; Thence along said Interstate 40 right of way line, S70°03′54″ W, a distance of 135.04 feet to a point; Thence southwesterly along said Interstate 40 right of way line on a curve (radius = 2414.69′, chord = S72°18′48″ W, a distance of 180.45 feet) delta = 4°16′57″, through an arc to the right a distance of 180.49 feet to a point, being the Southwest corner of “PARCEL II” and said point of beginning.

Said described “PARCEL II” contains 158,458.95 sq. ft. (3.6377 Ac.) more or less.

PARCEL III: (WD: Bk. A49, Pg. 1687, CWD: A96, Pg. 5080)

A certain tract of land situate within projected Section 3, Township 9 North, Range 1 West of the N.M.P.M, Bernalillo County, New Mexico, being more particularly described as follows:

Beginning at the Northwest corner of the herein described “PARCEL III”, from which point the section corner common to sections 3 and 4, T.9N. and sections 33 and 34, T.10N., R.1W., N.M.P.M., being an aluminum stamped cap, #11599, bears N13°59′07″ W, a distance of 153.19 feet, thence N05°47′23″ E, a distance of 2122.80 feet to said section corner; Thence from point of beginning, S89°06′35″ E, a distance of 4928.09 feet to a point, being a No. 5 Rebar, #11608, being the Northeast corner of “PARCEL III” and being a point on the Northerly line of Interstate 40, frontage road (NMP 1-040-3(31)137); Thence along said Interstate 40 right of way line, S74°56′46″ W, a distance of 2207.69 feet to a point, being R/W cap 8071, #11599; Thence southwesterly along said Interstate 40 right of way line on a curve (radius = 2559.05′, chord = S78°43′27″ W, a distance of 279.59 feet) delta = 6°15′47″, through an arc to the right a distance of 279.73 feet to a point, being R/W cap 8070, #11599; Thence along said Interstate 40 right of way line, S81°50′21″ W, a distance of 611.03 feet to a point, being R/W cap 8069, #11599; Thence along said Interstate 40 right of way line, N84°07′23″ W, a distance of 135.22 feet to a point, being R/W cap 8068, #11599; Thence along said Interstate 40 right of way line, S81°50′27″ W, a distance of 66.78 feet to a point, being R/W cap 8067, #11599; Thence N03°27′27″ E, a distance of 63.97 feet to a point, being a No. 4 Rebar, #11463; Thence N86°17′37″ W, a distance of 169.91 feet to a point, being a “spike found”; Thence southwesterly on a curve (radius = 1001.00′, chord = S74°57′23″ W, a distance of 643.52 feet) delta = 37°30′00″, through an arc to the left a distance of 655.15 feet to a point; Thence S53°31′18″ W, a distance of 203.50 feet to a point; Thence southwesterly on a curve (radius = 527.00′, Chord = S65°34′34″ W, a distance of 171.69 feet) delta = 18°45′00″, through an arc to the right a distance of 172.46 feet to a point; Thence S74°57′04″ W, a distance of 82.53 feet to a point; Thence N15°02′56″ W, a distance of 10.00 feet to a point; Thence S74°58′17″ W, a distance of 100.00 feet to a point, being a No. 4 Rebar, #11463; Thence N15°05′50″ W, a distance of 129.77 feet to a point, being a No. 4 Rebar, #11463; Thence S74°58′17″ W, a distance of 146.70 feet to a point, being the Southwest corner of “PARCEL III”, and being a No. 4 Rebar, #11463; Thence N13°59′07″ W, a distance of 1052.83 feet to a point, being the Northwest corner of `PARCEL III” and said point of beginning.

Said described “PARCEL III” contains 2,790,987.08 sq. ft. (64.0722 Ac.) more or less.

The above-described lands contain a total of 99.5623 acres, more or less, which is subject to all valid rights, reservations, rights-of-way, and easements of record.

This proclamation does not affect title to the land described above, nor does it affect any valid existing easements for public roads and highways, public utilities and for railroads and pipelines and any other rights-of-way or reservations of record.

Dated: July 7, 2011.
Larry Echo Hawk,
Assistant Secretary—Indian Affairs.

[FR Doc. 2011-17796 Filed 7-13-11; 8:45 am]

BILLING CODE 4310-W7-P